DEPARTMENT OF TRANSPORTATION

Federal Aviation Administration

14 CFR Part 71

[Docket No. FAA-2021-0804; Airspace Docket No. 20-AWP-56]

RIN 2120-AA66

Modification of Class D and Class E Airspace; China Lake NAWS (Armitage Field) Airport, CA

AGENCY: Federal Aviation Administration (FAA), DOT.

ACTION: Final rule.

SUMMARY: This action modifies the Class D airspace at China Lake NAWS (Armitage Field) Airport, China Lake, CA. This action also modifies the Class E airspace extending upward from 700 feet above the surface. Additionally, this action removes the China Lake (Navy) TACAN from the Class E5 text header and airspace description. Lastly, this action implements numerous administrative updates to the Class D and Class E5 text headers and the Class D airspace description. This action ensures the safety and management of instrument flight rule (IFR) operations at the airport.

DATES: Effective 0901 UTC, March 24, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov//air_traffic/publications/. For further information, you can contact the Airspace Policy Group, Federal Aviation Administration, 800 Independence Avenue SW, Washington, DC 20591; telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class D and Class E airspace at China Lake NAWS (Armitage Field) Airport, China Lake, CA, to ensure the safety and management of IFR operations at the airport.

History

The FAA published a notice of proposed rulemaking in the Federal Register (86 FR 56843; October 13, 2021) for Docket No. FAA-2021-0804 to modify the Class D and Class E airspace at China Lake NAWS (Armitage Field) Airport, China Lake, CA. Interested parties were invited to participate in this rulemaking effort by submitting written comments on the proposal to the FAA. No comments were received.

Class D and Class E5 airspace designations are published in paragraphs 5000, and 6005, respectively, of FAA Order JO 7400.11F, dated August 10, 2021, and effective September 15, 2021, which is incorporated by reference in 14 CFR 71.1. The Class E airspace designation listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This amendment to 14 CFR part 71 modifies the Class D airspace at China Lake NAWS (Armitage Field) Airport, China Lake, CA. To properly contain departing IFR aircraft flying toward or over rising terrain, the Class D is extended to the southwest of the airport.

This action also modifies the Class E airspace extending upward from 700 feet above the surface. This airspace is designed to contain departing IFR aircraft until reaching 1,200 feet above the surface and arriving IFR aircraft descending below 1,500 feet above the surface. New IFR approach procedures to Runway 03 were recently established at China Lake NAWS (Armitage Field) Airport, therefore, additional Class E airspace is necessary to ensure proper containment of the procedures.

Additionally, this action removes the China Lake (NAVY) TACAN from the Class E5 text header and airspace description. The navigational aid (NAVAID) is not needed to describe the airspace area, and removal of the NAVAID simplifies the airspace description.

Lastly, this action implements numerous administrative updates to Class D and Class E5 text headers and the Class D airspace description. The city name in the first line of the text headers is amended from “China Lake NWC” to “China Lake”, to match the FAA database. The airport name in the second line of the text headers is amended from “China Lake NWC” to “China Lake NAWS (Armitage Field) Airport”, to match the FAA database. The geographic coordinates in the third line of the text headers are updated to “lat. 35°41′09″ N, long. 117°41′32″ W”, to match the FAA database. The term “Airport/Facility Directory” in the last line of the Class D airspace description is updated to “Chart Supplement.”

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

AWP CA D China Lake, CA [Amended]

China Lake NAWS (Armitage Field) Airport, CA

(Lat. 35°41′09″ N, long. 117°41′32″ W)

That airspace extending upward from the surface to and including 4,800 feet MSL within a 4.5-mile radius of the airport, and within 1.9 miles each side of the 226° bearing from the airport extending from the 4.5-mile radius to 5.3 miles southwest of the airport. This Class D airspace area is effective during the specific dates and times established in advance by a Notice to Airmen. The effective date and time will thereafter be continuously published in the Chart Supplement.

Paragraph 6005 Class E Airspace Areas Extending Upward From 700 Feet or More Above the Surface of the Earth.

* * * * *

AWP CA E5 China Lake, CA [Amended]

China Lake NAWS (Armitage Field) Airport, CA

(Lat. 35°41′09″ N, long. 117°41′32″ W)

That airspace extending upward from 700 feet above the surface within a 4.5-mile radius of the airport, and within a 7-mile radius of the airport from the 115° bearing from the airport clockwise to the 271° bearing from the airport, and within 2.9 miles each side of the 184° bearing from the airport extending from the 7-mile radius to 9 miles south of the airport.

Issued in Des Moines, Washington, on January 4, 2022.
B.G. Chew,
Acting Group Manager, Operations Support Group, Western Service Center.

[FR Doc. 2022-00279 Filed 1-13-22; 8:45 am]

BILLING CODE 4910-13-P